DEPARTMENT OF HEALTH AND HUMAN SERVICES

Centers for Disease Control and Prevention

Disease, Disability, and Injury Prevention and Control Special Emphasis Panel (SEP): Preliminary Investigation of Health Effects of Occupational Exposures in Paducah Gaseous Diffusion Plant (PGDP) Workers

In accordance with section 10(a)(2) of the Federal Advisory Committee Act (Pub. L. 92-463), the Centers for Disease Control and Prevention (CDC) announces the following meeting:

Name: Disease, Disability, and Injury Prevention and Control Special Emphasis Panel (SEP): Preliminary Investigation of Health Effects of Occupational Exposures in Paducah Gaseous Diffusion Plant (PGDP) Workers.

Times and Dates:

8 a.m.-8:30 a.m., December 18, 2001 (Open)

8:40 a.m.-12:30 p.m., December 18, 2001 (Closed).

Place: Embassy Suites Hotel, 1900 Diagonal Road, Alexandria, Virginia 22314.

Status: Portions of the meeting will be closed to the public in accordance with provisions set forth in section 552b(c) (4) and (6), Title 5 U.S.C., and the Determination of the Deputy Director for Program Management, CDC, pursuant to Public Law 92-463.

Matters to be Discussed: The meeting will include the review, discussion, and evaluation of application received under the Memorandum of Understanding between the Department of Energy and the Department of Health and Human Services.

Contact Person for More Information: Kathleen Goedel, National Institute for Occupational Safety and Health, CDC, 4676 Columbia Parkway, M/S R-6, Cincinnati, Ohio 45226, telephone 513-841-4560.

The Director, Management Analysis and Services Office has been delegated the authority to sign Federal Register notices pertaining to announcements of meetings and other committee management activities, for both the Centers for Disease Control and Prevention and the Agency for Toxic Substances and Disease Registry.

Dated: November 23, 2001.
John C. Burckhardt,
Acting Director, Management Analysis and Services Office, Centers for Disease Control and Prevention (CDC).

[FR Doc. 01-29732 Filed 11-29-01; 8:45 am]

BILLING CODE 4163-19-P